DEPARTMENT OF EDUCATION

Office of Special Education and Rehabilitative Services; Grant Applications Under Part D, Subpart 2 of the Individuals With Disabilities Education Act

AGENCY: Department of Education.

ACTION: Notice inviting applications for new awards for fiscal year (FY) 2001.

SUMMARY: This notice provides closing dates and other information regarding the transmittal of applications for FY 2001 competitions under three programs authorized by the Individuals with Disabilities Education Act (IDEA), as amended. The three programs are: (1) Special Education—Research and Innovation to Improve Services and Results for Children with Disabilities (five priorities); (2) Special Education—Technical Assistance and Dissemination to Improve Services and Results for Children with Disabilities (two priorities); and (3) Special Education—Technology and Media Services for Individuals with Disabilities (five priorities).

Goals 2000: Educate America Act

The Goals 2000: Education America Act (Goals 2000) focuses the Nation's education reform efforts on the eight National Education Goals and provides a framework for meeting them. Goals 2000 promotes new partnerships to strengthen schools and expands the Department's capacities for helping communities to exchange ideas and obtain information needed to achieve the goals.

These priorities would address the National Education Goals by helping to improve results for children with disabilities.

Waiver of Rulemaking

It is generally our practice to offer interested parties the opportunity to comment on proposed priorities. However, section 661(e)(2) of IDEA makes the Administrative Procedure Act (5 U.S.C. 553) inapplicable to the priorities in this notice.

General Requirements: (a) The projects funded under this notice must make positive efforts to employ and advance in employment qualified individuals with disabilities in project activities (see Section 606 of IDEA).

(b) Applicants and grant recipients funded under this notice must involve individuals with disabilities or parents of individuals with disabilities in planning, implementing, and evaluating the projects (see Section 661(f)(1)(A) of IDEA).

(c) The projects funded under these priorities must budget for a two-day Project Directors' meeting in Washington, D.C. during each year of the project.

(d) In a single application, an applicant must address only one absolute priority in this notice.

(e) Part III of each application submitted under a priority in this notice, the application narrative, is where an applicant addresses the selection criteria that are used by reviewers in evaluating the application. You must limit Part III to the equivalent of no more than the number of pages listed in the table at the end of this notice for each applicable priority, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I—the cover sheet; Part II—the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Reasonable Accommodation: We will consider, and may fund, requests for additional funding above the maximum amounts indicated for each priority or focus as an addendum to an application to reflect the costs of reasonable accommodations necessary to allow individuals with disabilities to be employed on the project as personnel on project activities.

Pilot Project for Electronic Submission of Applications

The U.S. Department of Education is expanding its pilot project of electronic submission of applications to include certain formula grant programs, as well as additional discretionary grant competitions. The three programs in this announcement are included in the pilot project. If you are an applicant for a grant under any of the three programs, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Fax a signed copy of the Application for Federal Assistance (ED 424) after following these steps:

1. Print ED 424 from the e-APPLICATION system.

2. Make sure that the institution's Authorizing Representative signs this form.

3. Before faxing this form, submit your electronic application via the e-APPLICATION system. You will receive an automatic acknowledgment, which will include a PR/Award number (an identifying number unique to your application).

4. Place the PR/Award number in the upper right hand corner of ED 424.

5. Fax ED 424 to the Application Control Center within three working days of submitting your electronic application. We will indicate a fax number in e-APPLICATION at the time of your submission.

• We may request that you give us original signatures on all other forms at a later date.

You may access the electronic grant application for the program at: http://e-grants.ed.gov

We have included additional information about the e-APPLICATION pilot project (see Parity Guidelines between Paper and Electronic Applications) in the application package.

Research and Innovation To Improve Services and Results for Children With Disabilities [CFDA 84.324]

Purpose of Program: To produce, and advance the use of, knowledge to: (a) Improve services provided under IDEA, including the practices of professionals and others involved in providing those services to children with disabilities; and (b) improve educational and early intervention results for infants, toddlers, and children with disabilities.

Eligible Applicants: Under Absolute Priorities 1, 2, 3, and 5, and under focus area 2 of Absolute Priority 4, eligible applicants are State and local educational agencies, institutions of higher education (IHEs); other public agencies, private nonprofit organizations, outlying areas, freely associated States, and Indian tribes or tribal organizations. Under Absolute Priority 4, eligible applicants for focus areas 1 and 3 are limited to local educational agencies (LEAs), or consortia of LEAs with either IHEs or private nonprofit organizations.

Applicable Regulations: (a) The Education Department General Administrative Regulations (EDGAR) in 34 CFR parts 74, 75, 77, 80, 81, 82, 85, 86, 97, 98, and 99; (b) The selection criteria for the priorities under this program are drawn from the EDGAR general selection criteria menu. The specific selection criteria for each priority are included in the funding application packet for the applicable competition.

Note: The regulations in 34 CFR part 86 apply to institutions of higher education only.

Grants are required to collaborate with other research institutes, centers, and studies and evaluations, supported by the Department throughout the course of the project.

Priority: Under 34 CFR 75.105(c)(3), we consider only applications that meet one of the following priorities:

Absolute Priority 1—Directed Research Projects (84.324D)

This priority provides support for projects that advance and improve the knowledge base and improve the practice of professionals, parents, and others providing early intervention, special education, and related services. This includes professionals who work with children with disabilities in regular education environments and natural environments. Under this priority, projects must support innovation, development, exchange of information, and use of advancements in knowledge and practice. If the project maintains a web site, it must include relevant information and documents in an accessible form. Projects must (1) use rigorous quantitative or qualitative research and evaluation methods and (2) communicate appropriately with target audiences.

Focus 1—Inclusion of Students With Disabilities in Large-Scale Assessment and Accountability Programs

Recent laws and policies at Federal and State levels require the participation of students with disabilities in large-scale assessment and accountability programs to help ensure that students with disabilities achieve to high standards and have the fullest possible range of educational opportunities. Progress has been made in solving the technical, logistical, and policy obstacles to achieving this participation. However, continued progress is needed, particularly related to young children and children with low incidence disabilities taking regular assessments with or without accommodations.

Focus Area 1 supports projects that pursue systematic programs of applied research to either or both of the following: (a) Determine how State and local education agencies can best achieve the meaningful participation of students with disabilities in large-scale assessment and accountability programs; or (b) study the effects of State and local efforts to achieve this participation.

We intend to make approximately 3 awards in Focus Area 1 of which two of these awards would focus on young children through the age 9 in regular assessments or students with low-incidence disabilities in regular assessments, or both.

Low incidence disabilities include a visual or hearing impairment or simultaneous visual and hearing impairments, a significant cognitive impairment, or any impairment for which a small number of personnel with highly specialized skills and knowledge are needed in order for children with that impairment to receive a free appropriate public education.

Focus 2—Instructional Interventions and Results for Children With Disabilities

The successful implementation of the IDEA Amendments of 1997 requires a strong emphasis on supports for children with disabilities to help them access the general education curricula. Research is needed to describe, test, and validate instructional practices that have the potential for generating positive results for children with disabilities as they strive to meet State and local standards and performance goals set for all students. The research must focus on children in preschool, elementary, middle, or high school.

Projects supported under Focus 2 must investigate one or more issues related to providing instruction in the general education curriculum for children with disabilities. These issues may include, but are not limited to:

(a) The relationship of instructional interventions to results in core subjects such as, language arts, mathematics, science, social studies, foreign language;

(b) Contextual variables that influence access to the general education curriculum for students with disabilities. Contextual variables include, for example, classroom design, relative role of regular educators and special educators, groupings, or management strategies; curricular design, delivery, or materials; and family and staff interaction;

(c) Instructional and curricular accommodations to ensure that students with disabilities have access to the general education curriculum; and

(d) The relationship of inclusive preschool practices and child-family transition practices to child development, readiness skills, and preparation for participation in the primary grades.

We intend to fund a total of nine (9) awards in Focus 2 and to fund:

• At least three (3) projects that address innovative instructional interventions and strategies in core subjects required for high school graduation (e.g., algebra or foreign language); and,

• At least three (3) projects that describe, test, and validate instructional practices that enhance appropriate access to and participation and progress in the general education curriculum for children with cognitive disabilities.

Focus 3—Gender and Special Education

The purpose of this focus area is to explore the influences of gender on special education referral, placement, and service provision for students with disabilities.

Males and females comprise equal proportions of the school-aged population; however, males account for approximately two-thirds of all students served in special education. In many cases, it is not clear if females are underidentified for special education, if males are overidentified, or if real differences exist in the prevalence of disability between males and females. The research to date has primarily addressed commonalities of students rather than differences based on gender.

Some additional facts regarding gender and disabilities include:

(a) Females with disabilities have more significant disabilities than their male peers at the time of referral;

(b) Females with disabilities have lower IQ scores than their male counterparts at the time of referral; and

(c) Post school outcomes for females with disabilities are significantly worse than their male peers with disabilities.

Little is known, however, about the different characteristics, treatment and experiences of males and females with disabilities. These differences are likely to be caused by a combination of factors.

Under this focus, a research project must pursue a systematic program of research that focuses on one or more issues related to gender and special education. The issues may include, but are not limited to:

(a) The differences that may exist in the prevalence of disabilities based on gender, and, if so, why those differences exist;

(b) The reasons for different outcomes and opportunities, (e.g., employment, parenting, vocational education programs) for students with disabilities based on gender; and

(c) The factors that contribute to disproportionate representation of males and females in special education including (1) students' environmental, social, and learning experiences, and cultural and linguistic characteristics; (2) student or teacher behaviors and interactions; (3) teacher expectations and attitudes.

We intend to fund 3 awards in Focus 3.

Focus 4—Research To Improve Literacy Results for Children Who Are Unresponsive to Effective Classroom or Schoolwide Programs in Grades K-3

Recent reading research has focused on developing and validating strategies and interventions to ensure that children acquire literacy in regular education classroom settings by using effective classroom reading programs. These programs may include explicit and intensive instruction within or outside the classroom in small groups and, in the most difficult cases, with individualized one-on-one tutoring. The hope has been that all children would succeed in these circumstances; however, there are a small number of children who do not benefit at all from these interventions and who are at the highest risk for academic and social failure.

Effective learning and teaching strategies must also be found for these children. These strategies need to be based on the learning characteristics and needs of a child as well as reasonable expectations for the child. Projects supported under Focus 4 must—

(a) Identify the criteria used to decide that a child is unresponsive to interventions that are effective for most students;

(b) Identify and describe characteristics related to (1) the environmental, social, cultural, and English language learning factors each child may have experienced, and (2) the learning characteristics related to the literacy of each child who is unresponsive to reading programs to which a majority of children respond. Learning characteristics may include, but are not limited to, specific deficits in phonological awareness, inattentiveness and distractibility, motivation, language development, developmental delay, and IQ;

(c) Design processes for making decisions about how to target instruction that will be effective given the identified learning characteristics of the child;

(d) Document the progress of individual children toward meeting intervention goals, the fidelity of implementation of interventions, the qualifications of persons who make decisions and who implement interventions, the length and intensity of interventions, and the settings where the interventions take place; and

(e) Evaluate the expectations that were made for each child.

We intend to fund 3 awards in Focus 4.

Focus 5—Research To Improve Reading Comprehension Results for Children With Disabilities

In recent years, research has advanced our understanding of how skilled readers comprehend and how instructional strategies support children with learning disabilities to comprehend text. Comprehension is not merely a text-based process where meaning resides in the text and the role of the reader is to discover the meaning. To develop successful comprehension skills, many children with learning disabilities need an explicit instructional program that: (a) Teaches them how to access prior knowledge through strategies such as semantic mapping, think aloud sheets, etc.; (b) motivates and supports persistence on task, including expressions of a student's own thoughts when reading and writing, questioning the expert or inquiring, or using technology or grouping practices; and (c) teaches them cognitive and metacognitive strategies for reading with understanding, including how to monitor one's own progress through self-regulation, summarizing, generating questions, mnemonics, or imagery.

Under Focus 5, a project must pursue a systematic program of applied research that focuses on one or more issues related to improving reading comprehension results of children with learning disabilities related to reading. These issues include, but are not limited to:

(a) The types of effective comprehension instruction for children with learning disabilities in grades K-2, 3-5, and 6-8 inclusive;

(b) The components of particularly effective programs for children with learning disabilities, e.g., the basal materials, supplemental or adapted materials, instructional strategies used by teachers, and how families may support the instructional program;

(c) The types of effective questioning strategies used by teachers, peers, and parents to encourage and develop comprehension skills; and

(d) The kinds of individualized instruction, grouping practices, instructional strategies, and curricula that improve comprehension and problem solving.

We intend to make approximately 3 awards in Focus 5.

Focus 6—Alternative Schools and Programs

Many school districts and States have worked to establish or renew a focus on alternative schools and programs for children who are at-risk of suspension and expulsion from school. While specific definitions of alternative schools and programs vary considerably, they are typically designed to address the needs of students who are at risk of educational failure related to poor academic performance, inconsistent teacher training, truancy, disruptive behavior, suspension, expulsion, or other similar risk factors, and whose needs cannot be well met in a regular or traditional school setting. OSEP is supporting a new fast response survey through the National Center for Educational Statistics that by summer 2001 will provide information from districts on alternative schools and programs. However, research on the universe of alternative schools and programs in operation is much needed. Further, while a number of U.S. Department of Education demonstration projects are developing effective alternative programs to reduce school suspensions and expulsions (see, http://www.ed.gov/offices/OESE/SDFS/altst_200.html), research on the delivery of specific services to, and outcomes for, students with disabilities in alternative schools and programs has been limited.

Projects supported under Focus 6 must investigate one or more of the following issues relating to alternative schools and programs serving students with disabilities:

(a) The variety among alternative schools and programs in terms of definition, type, number of students with and without disabilities served, organizational or governance structures used, and other demographic characteristics.

(b) The referral and identification process and procedures used to place students with disabilities in alternative schools and programs.

(c) Exit procedures, timelimits, and procedures for transition and return to previous school or other settings.

(d) Special education services available and delivered, and outcomes achieved.

(e) The extent to which alternative schools and programs are used as IDEA-required interim alternative educational settings and the distinguishing characteristics of those settings.

(f) Coordination of special services in alternative schools and programs.

Projects must involve a directed in-depth examination of a few selected alternative schools or programs or larger-scale broader surveys of many schools or programs.

We intend to make approximately 3 awards in Focus 6.

Focus 7—Research on Early Childhood Mental Health

The elements of early intervention practice that support the social and emotional development of young children with or at risk of disabilities, are as important as those that support linguistic and cognitive development. An expanding knowledge base in early childhood mental health documents the contribution of emotional, regulatory, and social development, environmental factors, and early relationships to later school success and to the prevention of emotional disturbance. Additional research is needed to document effective practices for identifying and addressing the affective and behavioral problems of young children with or at risk of disabilities. Research may include family support practices that foster social-emotional development and resilience. Applications under this focus area must target the mental health of infants and toddlers (0-2 years old), or preschoolers (3-5 years old) or both (0-5 years old) who are receiving services under either the Part C or Part B programs of IDEA.

All applications submitted under this focus area must describe steps they will take to assure that findings from their research are disseminated to research and training centers (RTC's) funded by the Office of Special Education and Rehabilitative Services, including the two children's mental health RTC's funded by the National Institute on Disability and Rehabilitation Research (NIDRR) and the RTC on the Development of Infants, Toddlers, and Preschoolers with or at Risk of Disabilities.

We intend to make approximately 3 awards in Focus 7. At least one award will be made to a project that addresses the social and emotional development of young children with cognitive disabilities.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period for all Focus Areas: Up to 36 months for all focus areas.

Maximum Award for all Focus Areas: The maximum award amount is $180,000 per year. Consistent with EDGAR 34 CFR 75.104(b), we will reject any application that proposes a project funding level for any year that exceeds the stated maximum award amount for that year. This maximum award applies to any application for any Focus area. Requests for funding reasonable accommodations are not included in this limitation.

Page Limits for all Focus Areas: The maximum page limit for this priority is 50 double-spaced pages.

Note: Applications must meet the required page limit standards that are described in the “General Requirements” section of this notice.

Absolute Priority 2—Research and Training Center on the Development of Infants, Toddlers, and Preschool Children With or at Risk of Disabilities (84.324K)

If developmental delays are not addressed by appropriately trained personnel during the early years, a range of learning and behavioral problems may be more likely to occur later in school. Alternatively, early identification and effective interventions—in social, emotional, behavioral, communication, and preliteracy domains—can prevent or reduce the impact of specific disabilities. This priority would establish a research and training center (RTC) to translate the knowledge base on young children's early relationships, emotional, self regulatory, and social development, and environmental factors into effective strategies that establish a foundation for school success. The RTC will demonstrate and evaluate these strategies and implement effective training and dissemination efforts targeted on improving early childhood services and strengthening the capacity of families to support the healthy development of their children.

The RTC will serve as a center of national excellence for service providers, young children with or at risk of disabilities, family members, and other caregivers. The RTC supported under this priority must:

(1) Conduct coordinated and advanced programs of applied research to produce and disseminate knowledge to improve interventions and service delivery systems associated with the healthy mental development of infants, toddlers, and preschool children with or at risk of developmental disabilities, including research on the use of and state of practice in inclusive settings. These children should include those who are from communities representing rural, low income, urban, limited English proficiency, immigrant, and migrant populations.

(2) Provide training, including graduate, preservice, and inservice training, to help improve the skills of personnel serving young children with or at risk of disabilities and their families and caregivers.

(3) Disseminate information through conferences, workshops, public education programs, inservice training programs, and other activities;

(4) Collaborate with other RTC's supported by the Department, including the RTC's on children's mental health supported by the National Institute on Disability and Rehabilitation Research (NIDRR); and

(5) Utilize modern communication technologies, including the Internet, to expand the impact of its dissemination approaches.

In deciding whether to continue this project for the fourth and fifth years, we will consider the requirements of 34 CFR 75.253(a), and in addition—

(a) The recommendation of a review team consisting of experts selected by the Secretary, which review will be conducted during the last half of the project's second year in Washington, D.C. Projects must budget for the travel associated with this review;

(b) The timeliness and effectiveness with which all requirements of the negotiated cooperative agreement have been or are being met by the project; and

(c) The degree to which the project's design and methodology demonstrate the potential for advancing significant new knowledge.

Competitive Preference: Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 60 months.

Maximum Award: The maximum award amount is $500,000 per year. Consistent with EDGAR 34 CFR 75.104(b), we will reject any application that proposes a project funding level for any year that exceeds the stated maximum award amount for that year. Requests for funding reasonable accommodations are not included in this limitation.

Page Limits: The maximum page limit for this priority is 70 double-spaced pages.

Note: Applications must meet the required page limit standards that are described in the “General Requirements” section of this notice.

Absolute Priority 3—Research Institute on Early Literacy for Infants, Toddlers, and Young Children With Visual Impairments (84.324Q)

Current research documents the link between the development of preliteracy and early literacy skills for infants, toddlers, and young children and subsequent reading and academic success. The development of preliteracy and early literacy skills for infants, toddlers, and young children with visual impairments including blindness poses additional challenges for families and professionals. Many of the current practices and intervention strategies which promote the development of preliteracy and early literacy skills, including braille literacy, have not been empirically validated with this population, but were developed for use with infants, toddlers, and young children without visual impairments.

Priority: This priority supports a research institute to identify, validate, and disseminate the best and most promising practices for developing preliteracy and early literacy skills for infants, toddlers, and young children, birth through to entry into first grade, who have visual impairments, including blindness.

A project funded under this priority must—

(a) Review and synthesize the research base and examine the current and most promising practice paradigms in the following areas:

(1) Assessment of the needs of infants, toddlers, and young children with visual impairments, including blindness, as those needs relate to the development of preliteracy and early literacy skills;

(2) Determination of how new or innovative intervention strategies to promote preliteracy and early literacy skills used for other infants, toddlers, and young children, could be applied for use with infants, toddlers, and young children who have visual impairments, including blindness;

(3) Integration of intervention strategies in communication and other developmental domains with preliteracy and early literacy intervention methods for infants, toddlers, and preschoolers with visual impairments, including blindness;

(4) Access to and use of new and developing technologies for use with infants, toddlers, and young children with visual impairments, including blindness, for the development of preliteracy and early literacy skills.

(b) In consultation with the Office of Special Education Programs (OSEP), design and conduct a strategic program of research that addresses knowledge gaps by:

(1) Designing a rigorous research program whose conceptual framework builds upon recent and current research, identifies the gaps in knowledge, and provides a basis for the strategies and procedures to be studied;

(2) Collecting, analyzing, and reporting a variety of data, such as (i) information on the service settings, the service providers, and the infants, toddlers, and young children with visual impairments, including blindness and their families; (ii) outcome measures for the infants, toddlers, and young children and their families who are the focus of the intervention strategies and procedures; and (iii) implementation data from the service providers, administrators, agencies, families, and others involved in the research;

(3) Conducting the research using a variety of methodologies designed to comprehensively examine the impact of the interventions on preliteracy and early literacy skill development in the target population;

(4) Conducting the program of research in settings that ensure that the research findings and products impact preliteracy and early literacy development for all infants, toddlers, and young children with visual impairments, including children with blindness, and those children with visual impairments and secondary disabilities, and including those who are from communities representing rural, low income, urban, limited English proficiency, immigrant, and migrant populations; and

(5) Collaborating with other research institutes, centers, and studies and evaluations supported by the Department.

(c) Design, implement, and evaluate a dissemination approach that links research to practice and promotes the use of current knowledge and ongoing research findings. This approach must:

(1) Develop linkages with OSEP technical assistance providers to communicate research findings and distribute products; and

(2) Prepare the research findings and products from the project in formats that are useful for specific audiences, including early intervention researchers; general and special education researchers; local, State, and national policymakers; education practitioners and early interventionists; and families of infants, toddlers, and young children with visual impairments, including blindness.

(d) Provide training and research opportunities for a limited number of graduate students whose graduate studies are in the area of education for infants, toddlers, and young children with visual impairments, including blindness.

(e) Meet with the OSEP project officer in the first three months of the project to review the program of research, implementation, and dissemination approaches.

(f) In addition to the annual two-day Project Directors' meeting in Washington, D.C. listed in the “General Requirements” section of this notice, budget for another annual two-day trip to Washington, D.C. to collaborate with the OSEP project officer by sharing information and discussing design, implementation, and dissemination issues.

In deciding whether to continue this project for the fourth and fifth years, we will consider the requirements of 34 CFR 75.253(a), and in addition—

(a) The recommendation of a review team consisting of experts selected by the Secretary, which review will be conducted during the last half of the project's second year in Washington, D.C. Projects must budget for the travel associated with this review;

(b) The timeliness and effectiveness with which all requirements of the negotiated cooperative agreement have been or are being met by the project; and

(c) The degree to which the project's design and methodology demonstrate the potential for advancing significant new knowledge.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, within this competitive preference, applicants can be awarded up to a total of 10 points in addition to those awarded under the published selection criteria for this priority. That is, an applicant meeting this competitive preference could earn a maximum total of 110 points.

Project Period: Up to 60 months.

Maximum Award: The maximum award amount is $500,000 per year. Consistent with EDGAR 34 CFR 75.104(b), we will reject any application that proposes a project funding level for any year that exceeds the stated maximum award amount for that year. Requests for funding reasonable accommodations are not included in this limitation.

Page Limits: The maximum page limit for this priority is 70 double-spaced pages.

Note: Applications must meet the required page limit standards that are described in the “General Requirements” section of this notice.

Absolute Priority 4—Model Demonstration Projects for Children With Disabilities (84.324T)

This priority supports model demonstration projects that develop, implement, evaluate, and disseminate new or improved approaches for providing early intervention, special education and related services to infants, toddlers, and children with disabilities, ages birth through 21. Projects supported under this priority are expected to be major contributors of models or components of models for service providers and for outreach projects funded under IDEA.

Requirements for All Demonstration Projects

A model demonstration project must—

(a) Use rigorous quantitative or qualitative evaluation methods and data;

(b) Evaluate the model by using multiple measures of results to determine the effectiveness of the model and its components or strategies;

(c) Produce detailed procedures and materials that would enable others to replicate the model; and

(d) Communicate with appropriate audiences through means such as special education technical assistance providers and disseminators, refereed journal publications and other publications, conference presentations, or a web site.

If the project maintains a web site, it must include relevant information and documents in an accessible form.

Federal financial participation for a project funded under this priority will not exceed 90 percent of the total annual costs of the project (see section 661(f)(2)(A) of IDEA).

In addition to the annual two-day Project Directors' meeting in Washington, D.C. mentioned in the General Requirements section of this notice, projects must budget for another annual meeting in Washington, D.C. to collaborate with the Federal project officer and the other projects funded under this priority, to share information and discuss model development, evaluation, and project implementation issues.

Under this absolute priority, we will fund projects only in the focus areas listed below.

Focus 1—Model Demonstration Projects To Support Whole-School Reforms of Services for Children With Disabilities

The reauthorization of IDEA in 1997 (Public Law 105-17) encouraged “incentives for whole-school approaches and pre-referral intervention to reduce the need to label children as disabled in order to address their learning needs” (section 601(c)(5)(F)) and authorized: (a) IDEA support for schoolwide programs under Title I of the Elementary and Secondary Education Act of 1965 (section 613(a)(2)(D)); (b) Services and aids that also benefit nondisabled children (section 613(a)(4)(A)); (c) Integrated and coordinated service systems (section 613(a)(4)(B) and 613(f)); and (d) School-based improvement plans (section 613(g)).

This focus supports model projects that demonstrate how promising and proven research-based practices and strategies can be used to develop whole-school approaches that benefit all students, including all students with disabilities, and fully implement all other requirements of the law. Applicants must demonstrate how they will improve results for both students with disabilities and other students.

Specifically, applicants must describe activities to ensure that all students with disabilities have access to and succeed in the general curriculum; can participate in extracurricular activities, if available at the school; receive positive behavioral interventions, supports, and services when appropriate; and are included in State and local assessments.

Flexibility and innovation are encouraged in the design of the models, but every model must involve regular and special education staff in early identification, intervention, and prevention services; provide for parent participation; and make available a continuum of services, aids, and supports to meet the needs of students with disabilities in the least restrictive environment. It is expected that models funded under this priority will build upon other models, strategies, and practices including those supported under IDEA national activities.

Eligible applicants are invited to apply for these grants to foster whole-school projects at (a) Primary and elementary school, (b) middle and junior high school, or (c) high school levels. Regardless of who the project applicant is, a partnership between the LEA and an IHE or a private nonprofit organization must be demonstrated and maintained throughout the duration of the project. Applicants are required to collaborate with existing OSEP technical assistance centers and evaluation efforts throughout the course of the project.

Applicants must specify at least one school building, at each grade range addressed in the project, that will participate in the model demonstration project throughout the duration of the grant. Further, the LEA or consortium of an LEA and an IHE or a private nonprofit organization must agree to share evaluation data (with protections for anonymity of subjects) on student achievement and project effectiveness with OSEP-sponsored activities, which will synthesize research and evaluation information across the grantees. In addition projects must ensure and demonstrate how they will monitor and document challenges and progress throughout the project.

Projects funded under this priority must schedule one trip, annually to Washington, D.C. (as specified in the “General Requirements” section of this notice), one trip, annually to Washington, D.C. (as specified in the “Requirements for All Demonstration Projects” section of this notice), and an additional meeting to take place by the end of the first month of the project.

We intend to make approximately 15 awards under this priority. Each of the three grade ranges will be represented in the awards with at least three awards at each level.

Maximum Award: Projects will be funded for up to 48 months. The maximum award amount is $150,000 (exclusive of any matching funds) during each of the first two 12-month funding periods, and $75,000 (exclusive of any matching funds) during each of the two remaining 12-month funding periods. Consistent with EDGAR 34 CFR 75.104(b), we will reject any application that proposes a project funding level for any year that exceeds the stated maximum award amount for that year. Requests for funding reasonable accommodations are not included in this limitation.

Page Limits: The maximum page limit for this focus area is 50 double-spaced pages.

Note: Applications must meet the required page limit standards that are described in the “General Requirements” section of this notice.

Focus 2—Strengthening Childcare Infrastructures for Infants, Toddlers, and Preschoolers With Disabilities From Underserved Families and Communities

This focus supports model projects that demonstrate new or innovative childcare models that address the developmental needs of infants, toddlers, and preschoolers with disabilities. In addition to identifying and supporting underserved children with disabilities and their families, projects must address the special and individualized intervention needs of young children without resulting in the removal of children from inclusive settings and typical experiences. To maximize sustainability of change, projects must incorporate multiple formal and informal service delivery systems that have evolved in a community over the years, when identifying and addressing challenges that contribute to uneven service provision.

Challenges addressed under this focus area may include, but are not limited to, one or more of the following:

(a) The lack of available mental health services for children under age 6;

(b) Adverse environmental home or community conditions;

(c) Cultural differences between service providers and families;

(d) Differences between what child care programs offer and what families of young children with disabilities or at-risk for disabilities need or want;

(e) Children living with mentally ill family members;

(f) Children with complex medical concerns; and

(g) Children in families dealing with the stresses of poverty, substance abuse, or violence.

Measurements of model effectiveness should assess multiple influences longitudinally when reporting impact of community, family, and individual intervention variables on child development. Child competence measures should include observational measures of a child's underlying processing and executive functioning over time vis-a-vis the interventions received. In addition to measuring multi-level impact, models should examine whether the interventions can be implemented as planned, whether the participants for whom the program is designed actually participated, and how much the program costs.

Projects funded under this focus must schedule one trip, annually to Washington, D.C. (as specified in the “General Requirements” section of this notice), one trip, annually to Washington, D.C. (as specified in the “Requirements for All Demonstration Projects” section of this notice), and an additional meeting to take place at the beginning of year one, to identify collaborations across sites that can result in increased sample sizes, and planned variations of critical variables, interventions, and outcomes.

We intend to make approximately 3 awards under this focus area.

Maximum Award: The maximum award amount is $180,000 (exclusive of any matching funds) per year. Consistent with EDGAR 34 CFR 75.104(b), we will reject any application that proposes a project funding level for any year that exceeds the stated maximum award amount for that year. Requests for funding reasonable accommodations are not included in this limitation.

Page Limits: The maximum page limit for this focus is 50 double-spaced pages.

Note: Applications must meet the required page limit standards that are described in the “General Requirements” section of this notice.

Focus 3—Agency Participation in Transition

This focus area supports model projects that demonstrate new or improved approaches to participation and successful interagency collaboration in transition planning.

Projects must:

(a) Involve collaboration between multiple systems, such as education, vocational rehabilitation, workforce development, employer organizations, community networks, health, youth and adult service agencies, and other relevant agencies.

(b) Improve transitions between systems and eliminate service disruptions, including waiting lists for students exiting school; and

(c) Demonstrate that student Individualized Education Programs (IEP's) are based on students' interests, preferences, and needs and include, as appropriate, a statement of interagency responsibilities and any needed linkages. The linkages must include, as appropriate, postschool environments such as postsecondary schools, employment, adult service programs, and local One-Stop Career Centers created under the Workforce Investment Act.

Projects funded under this focus must schedule one trip, annually to Washington, D.C. (as specified in the “General Requirements” section of this notice), one trip, annually to Washington, D.C. (as specified in the “Requirements for All Demonstration Projects” section of this notice), and an additional meeting to take place by the end of the first month of the project.

We intend to make approximately 3 awards under this focus area.

Maximum Award: The maximum award amount is $180,000 (exclusive of any matching funds) per year. Consistent with EDGAR 34 CFR 75.104(b), we will reject any application that proposes a project funding level for any year that exceeds the stated maximum award amount for that year. Requests for funding reasonable accommodations are not included in this limitation.

Page Limits: The maximum page limit for this focus is 50 double-spaced pages.

Note: Applications must meet the required page limit standards that are described in the “General Requirements” section of this notice.

Competitive Preference for All Focus Areas

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period for All Focus Areas: Up to 48 months.

Absolute Priority 5—Improving Postschool Outcomes: Identifying and Promoting What Works (84.324W)

With the passage of the Education of the Handicapped Act Amendments of 1983, a Federal initiative was begun to assist high school youth with disabilities in achieving their goals for adult life, including postsecondary education, continuing education, competitive employment, and independent living. This process, known as secondary transition, has continued to be defined and developed in legislation, research, and practice. To a large extent, it has been the impetus for the shift in special education from an emphasis on process to one of achieving better results for children with disabilities. The Office of Special Education Programs (OSEP) has funded approximately 500 secondary transition projects since 1984 to develop, refine and validate effective practices and programs.

Priority: The purpose of this priority is to improve results for secondary-aged youth with disabilities by at a minimum, synthesizing, analyzing, and disseminating information in each of three areas:

—Improving academic results;

—Secondary transition practice; and

—Dropout prevention and intervention, including factors associated with early school exit for students with disabilities.

The project must—

(a) Synthesize the professional literature on each area. In conducting its syntheses, the project must:

(1) Develop a conceptual framework around which research questions will be posed and the synthesis conducted. Develop these research questions with input from potential consumers of the synthesis to enhance the usability and validity of the findings. Consumers include technical assistance providers, policymakers, educators, other relevant practitioners, individuals with disabilities, and parents;

(2) Identify and implement rigorous social science methods for synthesizing the professional knowledge base (including but not limited to, integrative reviews (Cooper, 1982), best-evidence synthesis (Slavin, 1989), meta-analysis (Glass, 1977), multi-vocal approach (Ogawa & Malen, 1991), and National Institute of Mental Health consensus development program (Huberman, 1977);

(3) Implement procedures for locating and organizing the extant literature and ensure that these procedures address and guard against potential threats to the integrity of each synthesis, including the generalization of findings;

(4) Establish criteria and procedures for judging the appropriateness of each synthesis;

(5) Meet with OSEP to review the project's methodological approach for conducting the synthesis prior to initiating the synthesis;

(6) Analyze and interpret the professional knowledge base, including identification of general trends in the literature, points of consensus and conflicts among findings, and areas of evidence where the literature base is lacking. The interpretation of the literature base must address the contributions of the findings for improving policy, academic supports, transition practices, and dropout prevention and intervention;

(7) Submit a draft report of the synthesis in each of the three focus areas, and based on review by OSEP staff, potential consumers, revise and submit a final report to OSEP and the Secondary Education and Transition Technical Assistance Center (SETAC) for dissemination to the field.

(b) Conduct an analysis of each of the three areas to identify effective approaches and practices derived from model demonstration projects (including, but not limited to, projects funded by OSEP, the Rehabilitation Services Administration (RSA), the National Institute on Disability and Rehabilitation Research (NIDRR), the Office of Postsecondary Education (OPE), the Office of Education Research and Improvement (OERI), and the Office of Vocational and Adult Education (OVAE).

In conducting its analyses, the project must:

(1) Identify the relevant projects for each analysis. Describe and implement procedures for locating and organizing relevant information on the individual projects, including sampling techniques, if appropriate;

(2) Articulate a research-based conceptual framework to guide the selection of variables to be examined within and across projects, including demographics, target population, purpose, activities, outcomes, and barriers. Pose research questions around which the analysis will be conducted. Develop these questions with input from potential consumers of the information to enhance the usability and validity of the research findings. Consumers include technical assistance providers, policymakers, researchers, educators, other relevant practitioners, individuals with disabilities, and parents;

(3) Meet with OSEP and the OSERS transition work group to review the project's research questions and methodological approach for conducting the analysis prior to initiation;

(4) Analyze and interpret the findings of the analysis, including similarities and differences among project goals, activities, staffing and costs; points of consensus and conflict among the findings or outcomes of the demonstrations; and the characteristics of model programs that hold significant promise for the field based on outcome data. In addition, the analysis must link to the synthesis on this topic and provide for the future policy formulation, practice implementation, and research priorities; and

(5) Submit a draft report of the analysis in each of the focus areas, and based on reviews by OSEP staff and potential consumers, revise, and submit a final report to OSEP and SETAC for dissemination and publication to inform policy and practice.

(c) Disseminate results of the project by collaborating with SETAC.

In addition to the annual two-day Project Directors' meeting in Washington, D.C. listed in the “General Requirements” section of this notice, projects must budget for another meeting each year in Washington, D.C. with OSEP to share information and discuss project implementation issues.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 36 months.

Maximum Award: The maximum award amount is $600,000 per year. Consistent with EDGAR 34 CFR 75.104(b), we will reject any application that proposes a project funding level for any year that exceeds the stated maximum award amount for that year. Requests for funding reasonable accommodations are not included in this limitation.

Page Limit: The maximum page limit for this priority is 70 double-spaced pages.

Note: Applications must meet the required page limit standards that are described in the “General Requirements” section of this notice.

Special Education—Technical Assistance and Dissemination To Improve Services and Results for Children With Disabilities [CFDA 84.326]

Purpose of Program: The purpose of this program is to provide technical assistance and information, through such mechanisms as institutes, Regional Resource Centers, clearinghouses, and programs that support States and local entities in building capacity, to improve early intervention, educational, and transitional services and results for children with disabilities and their families, and address systemic-change goals and priorities.

Applicable Regulations: (a) The Education Department General Administrative Regulations (EDGAR) in 34 CFR parts 74, 75, 77, 79, 80, 81, 82, 85, 86, 97, 98, and 99; (b) The selection criteria for the priorities under this program are drawn from the EDGAR general selection criteria menu. The specific selection criteria for each priority are included in the funding application packet for the applicable competition.

Note: The regulations in 34 CFR part 86 apply to institutions of higher education only.

Eligible Applicants: State and local educational agencies, institutions of higher education, other public agencies, private nonprofit organizations, outlying areas, freely associated States, Indian tribes or tribal organizations, and for-profit organizations.

Priority: Under section 685 of IDEA and 34 CFR 75.105(c)(3) we consider only applications that meet the following priorities:

Absolute Priority 1—National Clearinghouse on Postsecondary Education (84.326H)

Priority: This priority will support a National Clearinghouse on Postsecondary Education for Individuals with Disabilities. The Clearinghouse must—

(a) Collect and disseminate information on the following:

(1) Legislation affecting individuals with disabilities entering and participating in education and training programs after high school;

(2) Policies, procedures, support services (including assistive technology and adaptations), and other resources available or recommended to facilitate the postsecondary education of individuals with disabilities;

(3) Available resources and support services in postsecondary settings that include, or can be adapted to include individuals with disabilities; and

(4) Sources of financial aid for the postsecondary education and training of individuals with disabilities.

(b) Develop and disseminate a set of materials designed specifically to help prepare students with disabilities for transition to postsecondary education. Audiences for these materials should include vocational rehabilitation counselors, secondary guidance counselors, transition specialists, general and special education teachers, secondary career center and school-to-work staff, staff from Federally funded transition and postsecondary projects, such as, GEAR-UP, 21st Century Schools and TRIO, and students with disabilities and their families.

(c) Identify areas, in addition to those specified in paragraphs (a) and (b), in which information is needed and provide information in those areas;

(d) Develop a coordinated network of professionals, appropriate organizations, secondary and postsecondary education associations, institutions of higher education, mass media, other clearinghouses, and governmental agencies at the Federal, State, and local levels for purposes of disseminating information, promoting awareness of issues related to the postsecondary education of individuals with disabilities, and referring individuals who request information to appropriate resources;

(e) Respond to requests for information from individuals with disabilities, their parents, and professionals in secondary and postsecondary settings, education, vocational rehabilitation, and others who work with such individuals, so that persons may make informed decisions about postsecondary education and training. All information requests should be solicited and responses disseminated through multiple vehicles, accessible to individuals with disabilities. Such vehicles must include a toll free telephone number, a World Wide Web site, and electronic and regular mail. Technologies, such as CD-ROM and listservs should also be considered for information dissemination. Word Wide Web-based delivery of information must be maintained and updated on a regular basis.

(f) Link with other Federally supported technical assistance projects concerned with the transition of students with disabilities from secondary to postsecondary settings, in collecting, developing, and disseminating information. These should include projects funded by the U.S. Department of Education, Office of Special Education and Rehabilitative Services such as the Parent Training and Information Centers (PTIs); the Centers for Independent Living (CILs); the Regional Resource Centers (RRCs); the National Center on Educational Outcomes; the IDEA Partnership Projects; the National Center for Secondary Education and Transition Technical Assistance Center (NCSET); the National Center on the Study of Postsecondary Education Supports (NCSPES); all of the Demonstration Projects to Ensure Students With Disabilities Receive a Quality Higher Education, funded through the U.S. Department of Education's Office of Postsecondary Education; Historically Black Colleges and Universities (HBCUs); and other minority institutions.

(g) Make information products available in accessible formats, and as appropriate, foreign languages.

(h) Work with the American Council on Education (ACE) to ensure the successful transition of materials and resources from the HEATH Resource Center to the newly funded postsecondary clearinghouse.

In deciding whether to continue this project for the fourth and fifth years, we will consider the requirements of 34 CFR 75.253(a), and in addition—

(a) The recommendation of a review team consisting of experts selected by the Secretary, which review will be conducted during the last half of the project's second year in Washington, D.C. Projects must budget for the travel associated with this review;

(b) The timeliness and effectiveness with which all requirements of the negotiated cooperative agreement have been or are being met by the project; and

(c) The degree to which the project's design and methodology demonstrate the potential for advancing significant new knowledge.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 60 months.

Maximum Award: The maximum award amount is $500,000 per year. Consistent with EDGAR 34 CFR 75.104(b), we will reject any application that proposes a project funding level for any year that exceeds the stated maximum award amount for that year. Requests for funding reasonable accommodations are not included in this limitation.

Page Limits: The maximum page limit for this priority is 70 double-spaced pages.

Note: Applications must meet the required page limit standards that are described in the “General Requirements” section of this notice.

Absolute Priority 2—National Technical Assistance Project for Infants, Toddlers, and Children Who Are Deaf-Blind (84.326T)

Background

IDEA includes provisions designed to help ensure that each child with a disability is provided a high-quality individual program of services to meet their developmental and educational needs. For children who are deaf and blind to receive such services, intensive technical assistance must be afforded State and local educational agencies to appropriately address the special needs of these children. In addition, given the low-incidence nature of this population, many early intervention programs or educational agencies lack personnel with the training or experience to serve children who are deaf-blind. For these reasons, the following priority supports a project of national scope that provides specialized technical assistance regarding the provision of early intervention, special education, related services, and transitional services to children who are deaf-blind and their families.

Priority: This priority supports one national project that provides technical assistance, training, and information to State deaf-blind projects, families, model demonstration projects, and other agencies and organizations that are responsible for the provision of early intervention, special education, related services, and transitional services for infants, toddlers, and children who are deaf-blind.

The project must:

(a) Identify specific project goals, objectives, and activities in providing an array of services to State projects, families, model demonstration projects, other agencies and organizations that are responsible for providing services to children who are deaf-blind.

(b) Assist State projects and agencies to facilitate local, regional, or State systemic change initiatives that include children who are deaf-blind.

(c) Assist State projects and agencies to increase the States' capacities to improve early intervention, special education, related services, and transitional services to improve outcomes for children who are deaf-blind and their families.

(d) Provide technical assistance, training, and information that focus on the implementation of research-based, effective practices that will result in improved capacity of States and LEAs in providing appropriate assessment, planning, placement, and services.

(e) Provide technical assistance, training, and information that focus on the implementation of IDEA specific to children who are deaf-blind and their families.

(f) Implement and maintain an assessment of the needs of individual States and the overall needs of States to determine the array, type, and intensity of technical assistance to be provided.

(g) Facilitate activities and enhance relationships that build the capacity of deaf-blind children and their families for advocacy, empowerment, and increased knowledge.

(h) Evaluate project goals, objectives, and activities to determine the effectiveness of project strategies and the overall impact of technical assistance.

(i) Collaborate with other Federal technical assistance projects and State agencies that provide early intervention, special education, related services, and transitional services through programs such as Developmental Disabilities, Vocational Rehabilitation, Centers for Independent Living, and Parent Training and Information Centers in the provision of technical assistance, training, and information sharing.

(j) Develop and disseminate materials and products to supplement technical assistance and training. These materials and products must be made available through an accessible Internet web site.

(k) Assist personnel training programs to work collaboratively to impact a greater number of teachers and paraprofessionals so that they can more effectively provide services to children who are deaf-blind.

(l) Gather, maintain, and analyze demographic information on children who are deaf-blind for the purpose of developing project priorities based on data documenting the needs of these children.

(m) Assist OSEP in conducting the annual Project Directors' Meeting and other Federal initiatives.

(n) Develop and implement strategies to promote coordination among State and local agencies and organizations and children who are deaf-blind and their families specific to, but not limited to, the following:

(1) Early identification, assessment, placement and service provision;

(2) Alternate assessment as well as appropriate modifications and accommodations;

(3) Participation in the general curriculum and inclusion in natural environments;

(4) Access to appropriate and necessary assistive technology, including augmentative and alternative communication systems;

(5) Family-educator partnerships;

(6) Transition services including appropriate and timely assessment, planning, vocational training, interagency collaboration, and job placement and support;

(7) Consumer self-determination and self-advocacy; and

(8) Designing appropriate evaluation strategies for children who are deaf-blind.

(o) Establish and maintain an advisory committee to assist in promoting project activities. The committee must include at least one individual with deaf-blindness, one parent of a child with deaf-blindness, one representative of a State educational agency, and at least three professionals with training and experience in serving children with deaf-blindness, and other individuals representing appropriate agencies.

In deciding whether to continue this project for the fourth and fifth years, we will consider the requirements of 34 CFR 75.253(a), and in addition —

(a) The recommendation of a review team consisting of experts selected by the Secretary, which review will be conducted during the last half of the project's second year in Washington, DC Projects must budget for the travel associated with this review;

(b) The timeliness and effectiveness with which all requirements of the negotiated cooperative agreement have been or are being met by the project; and

(c) The degree to which the project promotes best practices designed to demonstrate the potential for advancing significant new knowledge in the area of services to children who are deaf-blind.

Competitive Preference:

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 60 months.

Maximum Award: The maximum award amount is $1,700,000 per year. Consistent with EDGAR 34 CFR 75.104(b), we will reject any application that proposes a project funding level for any year that exceeds the stated maximum award amount for that year. Requests for funding reasonable accommodations are not included in this limitation.

Page Limits: The maximum page limit for this priority is 70 double-spaced pages.

Note: Applications must meet the required page limit standards that are described in the “General Requirements” section of this notice.

Technology and Media Services for Individuals With Disabilities (CFDA 84.327)

Purpose of Program: The purpose of this program is to promote the development, demonstration, and utilization of technology and to support educational media activities designed to be of educational value to children with disabilities. This program also provides support for some captioning, video description, and cultural activities.

Applicable Regulations: (a) The Education Department General Administrative Regulations (EDGAR) in 34 CFR parts 74, 75, 77, 79, 80, 81, 82, 85, 86, 97, 98, and 99; (b) The selection criteria for the priorities under this program are drawn from the EDGAR general selection criteria menu. The specific selection criteria for each priority are included in the funding application packet for the applicable competition.

Note: The regulations in 34 CFR part 86 apply to institutions of higher education only.

Eligible Applicants: State and local educational agencies; institutions of higher education; other public agencies; private nonprofit organizations; outlying areas; freely associated States; Indian tribes or tribal organizations; and for-profit organizations.

Priority: Under section 687 of IDEA and 34 CFR 75.105(c)(3), we consider only applications that meet the following priority:

Absolute Priority 1—Video Description (84.327C)

Background

This priority supports cooperative agreements to provide video description for national broadcast, satellite, and cable television programs. The purpose of this activity will be to describe television programs and videos in order to make television programming and videos accessible to children and adults who are blind or have low vision. The intent of this priority is to allow children who are blind or have low vision to engage in age appropriate activities that include the watching of television. Only educational, news, and informational television and videos may be described after September 30, 2001.

Priority: To be considered for funding under this priority, a project must —

(a) Include criteria that take into account the preference of consumers for particular topics of interest, the diversity of programs or videos available, and the contribution of these programs or videos to the general educational, social, and cultural experiences of individuals with visual disabilities;

(b) Identify and support a diverse consumer advisory group including parents and educators, that would meet at least annually;

(c) Identify the total number of hours and cost for each program to be described;

(d) Identify for each program or video to be described, the source and amount of any private or other public support, if any;

(e) Demonstrate the willingness of program providers to permit video description and distribution of their program or video; and

(f) Evaluate the effectiveness of the methods and technologies used in providing this service and the impact on intended populations.

Video descriptions produced under these awards must be provided on request to owners or rights holders of programming, and may be reformatted or otherwise adapted by them for future airings or other distributions.

Competitive Preference:

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 36 months.

Maximum Award: The maximum award amount is $350,000 per year. Consistent with EDGAR 34 CFR 75.104(b), we will reject any application that proposes a project funding level for any year that exceeds the stated maximum award amount for that year. Requests for funding reasonable accommodations are not included in this limitation.

Page Limits: The maximum page limit for this priority is 50 double-spaced pages.

Note: Applications must meet the required page limit standards that are described in the “General Requirements” section of this notice.

Absolute Priority 2—Accessible Educational TV (84.327E)

Background

This priority supports cooperative agreements to provide for the description and captioning of widely available, noncommercial, educational, and instructional programming that is suitable for use in the classroom and shown on broadcast, satellite, or basic cable television networks. Captioning provides a visual representation of the audio portion of the programming while video description provides a narrative of what takes place visually on the screen. This will allow children with disabilities in the areas of vision or hearing to engage in age appropriate activities that includes the watching of television. Only educational, news, and informational television and videos may be captioned or described after September 30, 2001.

Priority: To be considered for funding under this competition, a project must —

(a) Include criteria that takes into account the preference of educators, students, and parents for particular educational and instructional programs, the diversity of this type of programming available, and the contribution of this type of programming to the general educational experience of students who have disabilities in the areas of vision or hearing;

(b) Identify and support a diverse consumer advisory group, including parents and educators, that would meet at least annually;

(c) Identify the extent to which the programming is widely available;

(d) Identify the extent to which this commercial-free programming may be taped for later classroom use;

(e) Identify the total number of program hours to be made accessible and the cost per hour for captioning and description;

(f) Identify for each program to be made accessible, the source of any private or other public support, and the projected dollar amount of that support, if any;

(g) Demonstrate the willingness of program providers or owners of programs to permit and facilitate the quality captioning and description of their programs;

(h) Provide assurances from program providers or owners of programs stating the extent to which programs made accessible under this project will air, and will continue to air, without the need for reformatting or additional description;

(i) Evaluate the effectiveness of the methods and technologies used in providing this service and the impact on intended populations; and

(j) Conduct nationwide outreach activities that target the potential audience for this type of programming. To accomplish this objective, the applicant must employ multiple dissemination mechanisms and approaches, such as a user-friendly web site that incorporates hotlinks to other web sites such as the National Clearinghouse in order to further promote and inform the target audiences about the service. This web site must be fully accessible and customized to attract individuals from culturally and economically diverse backgrounds and individuals with disabilities, across varying age levels and professional experiences.

Captions and video descriptions produced under these awards must be provided on request to owners or rights holders of programming, and may be reformatted or otherwise adapted by them for future airings or other distributions.

Competitive Preferences

Within this absolute priority, we will award the following competitive preference, under 34 CFR 75.105(c)(2)(i): An additional 10 points to an applicant that proposes to include in the range of programs to be described and captioned at least 52 hours a year of programming originally broadcast in Spanish.

In addition, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 20 points in addition to those awarded under the published selection criteria for this priority. That is, an applicant meeting this competitive preference could earn a maximum total of 120 points.

Project Period: Up to 36 months.

Maximum Award: The maximum award amount is $225,000 per year. Consistent with EDGAR 34 CFR 75.104(b), we will reject any application that proposes a project funding level for any year that exceeds the stated maximum award amount for that year. Requests for funding reasonable accommodations are not included in this limitation.

Page Limits: The maximum page limit for this priority is 50 double-spaced pages.

Note: Applications must meet the required page limit standards that are described in the “General Requirements” section of this notice.

Absolute Priority 3—Open-Captioned Educational Media: Video Selection, Captioning, and Distribution (84.327N)

Background

This priority supports one cooperative agreement for the selection, acquisition, open-captioning, and distribution of media on a nonprofit free loan-basis, for use by students who are deaf or hard of hearing, parents of deaf or hard of hearing persons, individuals directly involved in activities promoting the advancement of individuals who are deaf or hard of hearing, and other individuals with disabilities in the United States. This priority would ensure that students and other individuals who are deaf or hard of hearing, as well as other individuals with disabilities, might benefit from the same media used to enrich the educational experiences of students and other individuals who do not have disabilities.

Priority: To be considered for funding under this priority, the project must:

(a) Develop strategies and procedures to be used in determining curricular needs of students who are deaf or hard of hearing in all types of school settings for captioned media;

(b) Obtain media from producers and distributors for screening, evaluation, and captioning. Select from titles submitted by evaluators those that closely match the curricular needs identified under paragraph (a) of this priority, taking into account the media most commonly used in school districts across the nation for students.

(c) Make arrangements with respective producers and distributors to purchase, caption, and distribute selected media, including distribution in alternate formats. Captioned masters must be made available to producers and distributors in an effort to promote the use of captioned media.

(d) For selected media purchased, have captions prepared by captioning agencies that meet guidelines for captioned media take into account the age and reading levels of the likely target audience.

(e) Establish guidelines to ensure even and maximum participation of captioning service providers in providing captions.

(f) Develop and implement quality control guidelines and procedures for checking media after it has been captioned, and procedures for training captioning agencies that express the desire to caption for the program.

(g) Prepare up to 300 copies of each title purchased for distribution through the distribution system. Twenty five percent of the annual acquisition also must be captioned in Spanish so those Latino students who are deaf or hard of hearing can have access to media.

(h) For selected videos to be used in classrooms, select and train writers to prepare lesson guides.

(i) Develop strategies and procedures to be implemented in operating a distribution system, consisting of local and regional depositories for distribution of captioned educational media, and one central general interest and one central educational distribution center. Local and regional depositories may include State schools, public or private school systems, public libraries, colleges or universities, or other distribution points. The system must be computerized and allow electronic ordering, booking, and shipping of materials, including interdepository circulation of free loan captioned media. Explore and utilize alternate delivery methods (i.e., via CD Rom, Internet, or Satellite) of captioned media.

(j) Describe and establish computerized registration procedures, accessible via the Internet, that will be used to register eligible users, schedule captioned media retrieval, and track and record consumer feedback and usage information.

(k) Prepare, update, and distribute copies of a catalog listing all captioned media available under this project, including copies of lesson guides, as they become available. Both lesson guides and catalogs must be made available online.

(l) In years 2 and 4 of the award, convene a meeting of local and regional depository managers, librarians, and audiovisual and other personnel from State educational agencies for the purpose of training and planning. The year two meeting will be held at the project site and the year four meeting will be held in the Washington, D.C. Metropolitan area. Regional meetings of depository managers shall be held in years 1 and 3 of the project and shall coincide with meetings scheduled under paragraph (m). All dates should be coordinated with the Project Officer.

(m) Establish an advisory group of 7 members, which shall meet annually, consisting of video producers and distributors, captioning service providers, consumers of captioned media, parents of students with hearing impairments, public and private school administrators and educational personnel, and members from minority communities. This advisory group shall develop an evaluation program for incorporating the reactions and suggestions of users into the selection and captioning process, provide input regarding the impact on program activities and services, review effectiveness of the system and make recommendations to ensure maximum effectiveness. The Project Officer must approve committee membership. Format, agenda and dates of advisory group meetings shall require prior approval by the Project Officer. A set of recommendations for program enhancements recommended by the advisory group shall be forwarded to the Department annually.

(n) Develop and maintain a comprehensive database containing information related to the availability of open and closed captioned media, information regarding the captioned media loan service, and captioning service providers and procedures for applying for free loan services. In addition, the project shall maintain a clearinghouse of information on the subject of captioning for use by consumers, agencies, corporations, businesses, and schools. All information should be accessible via the Internet.

In deciding whether to continue this project for the fourth and fifth years, we will consider the requirements of 34 CFR 75.253(a), and in addition—

(a) The recommendation of a review team consisting of experts selected by the Secretary, which review will be conducted during the last half of the project's second year in Washington, D.C. Projects must budget for the travel associated with this review; and

(b) The timeliness and effectiveness with which all requirements of the negotiated cooperative agreement have been or are being met by the project; and

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 60 months.

Maximum Award: The maximum award amount is $3,350,000 per year. Consistent with EDGAR 34 CFR 75.104(b), we will reject any application that proposes a project funding level for any year that exceeds the stated maximum award amount for that year. Requests for funding reasonable accommodations are not included in this limitation.

Page Limits: The maximum page limit for this priority is 80 double-spaced pages.

Note: Applications must meet the required page limit standards that are described in the “General Requirements” section of this notice.

Absolute Priority 4—Closed Captioned Daytime Television Programs (84.327S)

This priority supports cooperative agreements to continue and expand the variety of daytime television programming available nationally to individuals who are deaf or hard of hearing through captioning. Captioning provides a visual representation of the audio portion of television programming and enables children, young adults, and adults who are deaf or hard of hearing to engage in age-appropriate behavior with their nondisabled peers by participating in shared educational, social, and cultural experiences which include the watching of television. Federal funds may not be used to fund more than 65 percent of captioning costs in Year One of the project, no more than 60 percent of the captioning costs in year two, and no more than 55 percent in year three. For the purpose of this activity, program hours, or the costs of captioning associated with those programs, that are funded by promotional billboards shall not be considered as an in-kind cost, or a private sector match, for those Federal funds. Only educational, news, and informational television and videos may be captioned after September 30, 2001.

Priority: To be considered for funding under this priority, a project must—

(a) Include procedures and criteria for selecting programs for captioning that take into account the preference of consumers from diverse communities for particular daytime programs;

(b) Provide a backup system that will ensure quality captioning service;

(c) Identify and support a consumer advisory group, which would meet at least annually;

(d) Identify the total number of hours and the captioning cost per program hour for each of the programs captioned;

(e) Identify for each program to be captioned, the source, and amount of any private or other public support;

(f) Demonstrate the willingness of major national commercial broadcast or basic cable networks to permit and facilitate the quality captioning of their programs; and

(g) Implement procedures for monitoring the extent to which full and accurate captioning is provided and use this information to make refinements in captioning operations.

Captions produced under these awards must be provided on request to owners or rights holders of programming, including networks or syndicators and may be reformatted or otherwise adapted by them for future airings or other distributions.

Competitive Preferences

Within this absolute priority, we will award the following competitive preference, under 34 CFR 75.105(c)(2)(i): An additional 10 points to an applicant that proposes to include in the range of programs to be described and captioned at least 52 hours a year of programming originally broadcast in Spanish.

In addition, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 20 points in addition to those awarded under the published selection criteria for this priority. That is, an applicant meeting this competitive preference could earn a maximum total of 120 points.

Project Period: Up to 36 months.

Maximum Award: The maximum award amount is $200,000 per year. Consistent with EDGAR 34 CFR 75.104(b), we will reject any application that proposes a project funding level for any year that exceeds the stated maximum award amount for that year. Requests for funding reasonable accommodations are not included in this limitation.

Page Limits: The maximum page limit for this priority is 50 double-spaced pages.

Note: Applications must meet the required page limit standards that are described in the “General Requirements” section of this notice.

Absolute Priority 5—Research Institute on the Use of Technology In Early Intervention (84.327X)

Background

Technology has shown great potential in supporting the growth and development of children. This is particularly true with infants and toddlers with disabilities. The years from birth to three represent a pivotal stage in a child's life. During this period, young children make important gains in mobility, communication, social awareness, and cognitive understanding. It is also a period of time in which children's development is intrinsically tied to interaction with those who care for them. Technology has the potential to empower families and caregivers to provide the type of environment in which infants and toddlers with disabilities can reach their maximum potential for growth and learning.

The IDEA lists assistive technology devices and services as early intervention services that could be provided to meet the developmental needs of each child and the needs of their families relating to enhancing the child's development. These services are selected in collaboration with the parents and provided in conformity with an individualized family service plan (IFSP) (34 CFR 303.12(a)).

Section 602(1) of IDEA defines an assistive technology (AT) device as “any item, piece of equipment, or product system, whether acquired commercially off the shelf, modified, or customized, that is used to increase, maintain, or improve functional capabilities of a child with a disability.” According to Section 602(2), an assistive technology service means, “any service that directly assists a child with a disability in the selection, acquisition, or use of an assistive technology device * * *” The law lists such services as evaluation, purchasing, selection, coordination with other interventions, and training for the child and family, as well as training or technical assistance for professionals.

Even though technology appears to hold great benefits for infants and toddlers with disabilities, the knowledge base on this topic is limited. Evidence of the use and effectiveness of assistive technology for this population is for the most part anecdotal and practitioner-oriented. Comprehensive research on the subject is scarce.

There is little argument that technology devices can help infants and toddlers with disabilities interact with their environment. Some useful AT devices could be off-the-shelf commercial items or materials that have been modified or adapted according to the specific needs of the child. Examples include head pointers, picture boards with symbols or pictures, and pull toys. More complex technologies may involve computers or electronics that often are specially ordered and fitted. Examples are electronic scooters, drawing software, or a musical mat. Whatever device or application is chosen, it is important, that when considering the use of technology with young children, the professional involved goes beyond merely matching tools to the child's abilities and disabilities. The decision also should reflect the family's goals and be another tool in helping young children to grow and develop within the context of the family.

Priority: This priority is for a research institute to study the use of technology to enhance the development of infants and toddlers with disabilities ages birth to three years.

The Institute must:

(a) Select a range of settings within States reflecting diverse demographics;

(b) Use methodologies such as interviews, case studies, focus groups, reviews of records, observations, and policy analyses;

(c) Consider what factors enhance or impede decisionmaking, planning, acquisition, maintenance, and training in the use of technology;

(d) Answer, at a minimum, the following research questions:

(1) Prevalence: What percentage of infants and toddlers with disabilities use technology as part of their IFSP? What functions are these devices and services intended to perform for the individual child?

(2) Policy and Resources: What policies or guidelines and processes are in place to help the IFSP team make decisions about the use of technology? What resources are in place to finance the provision of technology? What mechanisms are in place to ensure leveraging of resources among appropriate agencies? How do early intervention programs acquire technology? How is the technology managed and maintained?

(3) Individualized decisionmaking: How are the child's needs for the technology evaluated? How does the IFSP team determine when a technology device or service is appropriate? How is the appropriate technology selected, designed, or adapted to the individual child?

(4) Training and Support: What training and technical assistance is available for service providers, caregivers, families, and other appropriate individuals regarding technology? Are structures in place to promote collaboration among appropriate agencies and service providers?

(e) Design and implement a dissemination approach that promotes the use of current knowledge and ongoing research findings. In support of this approach, the Institute must:

(1) Develop links with appropriate Department of Education technical assistance providers to communicate research findings and distribute products;

(2) Develop a web site to link participating early intervention programs and to provide up-to-date information on findings;

(3) Prepare the research findings in formats that are useful for specific audiences, such as families, service providers, administrators, and policy makers;

(4) Meet with the OSEP project officer and appropriate OSEP staff within the first three months of the project to review the strategic work plan and the approach to dissemination;

(f) Fund at least three graduate students per year as research assistants who have concentrations in early childhood development, early intervention issues, and technology; and

(g) Budget for trips to Washington, DC (one trip during the first year of the project to meet and collaborate with U.S. Department of Education officials; one trip annually, as specified in the “General Requirements” section of this notice, to attend the two-day OSEP Research Project Directors' Conference; and one trip annually to attend the three-day Early Childhood Combined Conference).

In deciding whether to continue this project for the fourth and fifth years, we will consider the requirements of 34 CFR 75.253(a), and in addition—

(a) The recommendation of a review team consisting of experts selected by the Secretary, which review will be conducted during the last half of the project's second year in Washington, DC. Projects must budget for the travel associated with this review;

(b) The timeliness and effectiveness with which all requirements of the negotiated cooperative agreement have been or are being met by the project; and

(c) The degree to which the project's design and methodology demonstrate the potential for advancing significant new knowledge.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Up to 60 months.

Maximum Award: The maximum award amount is $500,000 per year. Consistent with EDGAR 34 CFR 75.104(b), we will reject any application that proposes a project funding level for any year that exceeds the stated maximum award amount for that year. Requests for funding reasonable accommodations are not included in this limitation.

Page Limits: The maximum page limit for this priority is 70 double-spaced pages.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site (http://www.ed.gov/pubs/edpubs.html) or its E-mail address (edpubs@inet.ed.gov).

For Further Information Contact: Grants and Contracts Services Team, U.S. Department of Education, 400 Maryland Avenue, SW., room 3317, Switzer Building, Washington, DC 20202-2550. Telephone: (202) 260-9182.

If you use a TDD you may call the Federal Information Relay Service (FIRS) at 1-800-877-8339.

Individuals with disabilities may obtain this document in an alternative format (e.g., Braille, large print, audiotape, or computer diskette) on request to the contact persons listed in the preceding paragraph.

Individuals with disabilities may obtain a copy of the application package in an alternative format by contacting the Department as listed above. However, the Department is not able to reproduce in an alternative format the standard forms included in the application package.

Intergovernmental Review

All programs in this notice (except for the Research and Innovation to Improve Services and Results for Children with Disabilities Program) are subject to the requirements of Executive Order 12372 and the regulations in 34 CFR Part 79. The objective of the Executive Order is to foster an intergovernmental partnership and a strengthened federalism by relying on processes developed by State and local governments for coordination and review of proposed Federal financial assistance.

In accordance with the order, we intend this document to provide early notification of the Department's specific plans and actions for those programs.

Individuals With Disabilities Education Act Application Notice for Fiscal Year 2001
CFDA No. and name | Applications available | Application deadline date | Deadline for intergovernmental review | Maximum award (per year) * | Project period | Page limit ** | Estimated number of awards
84.324D Directed Research Projects | 01/19/01 | 03/02/01 |  | $180,000 | Up to 36 mos | 50 | 27
84.324K Research and Training Center on the Development of Infants, Toddlers, and Preschool Children with or At Risk of Disabilities | 01/19/01 | 03/09/01 |  | 500,000 | Up to 60 mos | 70 | 1
84.324Q Research Institute on Early Literacy for Infants, Toddlers, and Young Children with Visual Impairments | 01/19/01 | 03/09/01 |  | 500,000 | Up to 60 mos | 70 | 1
84.324T Model Demonstration Projects for Children with Disabilities | 01/19/01 | 03/16/01 |  |  | Up to 48 mos | 50 | 21
Focus Area 1: First two 12-month funding periods |  |  |  | 150,000 |  |  |
Focus Area 1: Final two 12-month funding periods |  |  |  | 75,000 |  |  |
Focus Areas 2 and 3 |  |  |  | 180,000 |  |  |
84.324W Improving Post School Outcomes: Identifying and Promoting What Works | 01/19/01 | 03/09/01 |  | 600,000 | Up to 36 mos | 70 | 1
84.326H National Clearinghouse on Postsecondary Education | 01/19/01 | 03/09/01 | 05/08/01 | 500,000 | Up to 60 mos | 70 | 1
84.326T National Technical Assistance Project for Infants, Toddlers, and Children Who Are Deaf-Blind | 01/19/01 | 03/09/01 | 05/08/01 | 1,700,000 | Up to 60 mos | 70 | 1
84.327C Video Description | 01/19/01 | 03/09/01 | 05/08/01 | 350,000 | Up to 36 mos | 50 | 2
84.327E Accessible Education TV | 01/19/01 | 03/16/01 | 05/15/01 | 225,000 | Up to 36 mos | 50 | 5
84.327N Open-Captioned Educational Media: Selection, Captioning and Distribution | 01/19/01 | 03/09/01 | 05/08/01 | 3,350,000 | Up to 60 mos | 80 | 1
84.327S Closed Captioned Daytime Television Programs | 01/19/01 | 3/23/01 | 05/23/01 | 200,000 | Up to 36 mos | 50 | 5
84.327X Research Institute on Technology for Early Intervention | 01/19/01 | 03/30/01 | 05/30/01 | 500,000 | Up to 60 mos | 70 | 1
* Consistent with EDGAR 34 CFR 75.104(b), we will reject any application that proposes a project funding level for any year that exceeds the stated maximum award amount for that year. We will consider, and may fund, requests for additional funding as an addendum to an application to reflect the costs of reasonable accommodations necessary to allow individuals with disabilities to be employed on the project as personnel on project activities.
** Applicants must limit the Application Narrative, Part III of the Application, to the page limits noted above. Please refer to the “Page Limit” requirements included under each priority description and the page limit standards described in the “General Requirements” section. We will reject and will not consider an application that does not adhere to this requirement.

Electronic Access to This Document

You may view this document, as well as all other Department of Education documents published in the Federal Register, in text or portable document format (PDF) on the internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html

Program Authority: 20 U.S.C. 1405, 1461, 1472, 1474, and 1487.

Dated: January 10, 2001.
Judith E. Heumann,
Assistant Secretary for Special Education and Rehabilitative Services.

[FR Doc. 01-1241 Filed 1-19-01; 8:45 am]

BILLING CODE 4000-01-P